DEPARTMENT OF HEALTH AND HUMAN SERVICES

Administration for Children and Families

Delegation of Authority

Notice is hereby given that I have delegated to the Associate Commissioner, Children's Bureau, Administration for Children, Youth and Families, the following authorities vested in me by the Assistant Secretary for Children and Families by memorandum dated February 16, 2007.

(a) Authorities Delegated.

1. Authority to administer the Child Welfare Services Program, including the State Grant Program, the Research and Demonstration Program and the Training program pursuant to Title IV-B of the Social Security Act, and as amended now and hereafter.

2. Authority to administer the Foster Care Program and Adoption Assistance programs including the Independent Living Initiative under Title IV-E of the Social Security Act, and as amended now and hereafter.

3. Authority to administer the provisions of the Child Abuse Prevention and Treatment Act, 42 U.S.C. 5101 et seq., and as amended now and hereafter.

4. Authority to administer the provisions of the Adoption Opportunities Program under Title II of the Child Abuse Prevention and Treatment and Adoption Reform Act, 42 U.S.C. 5111-5115, and as amended now and hereafter.

5. Authorities and functions vested in the Secretary under the Organic Act of the Children's Bureau (Act of April 9, 1912) 42 U.S.C. 191, et seq., and as amended now and hereafter.

6. Authorities that provide for the establishment of A National Adoption Information Clearinghouse under Section 9442 of the Omnibus Budget Reconciliation Act of 1986, 42 U.S.C. 679a, and as amended now and hereafter.

7. Authorities to administer the Abandoned Infants Assistance Act of 1988, 42 U.S.C. 670 note, and as amended now and hereafter.

8. Authority under Section 13711(a)(2) of the Omnibus Budget Reconciliation Act of 1993, Pub. L. 103-66, for the Family Preservation and Support Services program, subpart 2 of the Title IV-B, Child and Family Services, of the Social Security Act 42 U.S.C. 629, and as amended now and hereafter.

9. Authorities vested in the Secretary of Health and Human Services under Section 330F (other than Section 330F(a)(6)(C)) of the Public Health Service Act (42 U.S.C. 254c-6), as amended, titled “Certain Services for Pregnant Women.”

(b) Limitations.

1. This delegation of authority shall be exercised under the Department's existing policies on delegations and regulations.

2. This delegation excludes the authority to submit reports to Congress and shall be exercised under financial and administrative requirements applicable to all Administration for Children and Families' authorities.

3. The approval or disapproval of grant applications and the making of grant awards require concurrence of the appropriate Grants Officer. The approval or disapproval of contract proposals and awards are subject to the requirements of the Federal Acquisition Regulations and requires the concurrence of the Contracting Officer.

4. This delegation of authority does not include the authority to sign and issue notices of grant awards for Children's Bureau programs.

5. This delegation of authority does not include the authority to appoint Central Office and Regional Office Grant Officers for the administration of Children's Bureau programs.

6. This delegation of authority does not include the authority to appoint Action Officials for Audit Resolution.

7. This delegation of authority does not include the authority to approve or disapprove State requests for Federal financial participation for the costs of automated data processing equipment and services that affect more than one HHS Operating Division.

8. This delegation of authority does not include the authority to conduct hearings.

9. This delegation of authority does not include the authority under section 429 of the Social Security Act.

10. This delegation of authority does not include the authority under section 439 of the Social Security Act, Grants for Programs for Mentoring Children of Prisoners.

11. Any redelegation shall be in writing and prompt notification must be provided to all affected managers, supervisors, and other personnel and requires the concurrence of the Deputy Assistant Secretary for Administration.

(c) Effective Date.

This delegation of authority is effective upon the date of signature.

(d) Effect on Existing Delegations.

As related to the authorities delegated herein, this delegation of authority supersedes all previous delegations of authority.

I hereby affirm and ratify any actions taken by the Associate Commissioner, Children's Bureau, Administration on Children, Youth and Families, which involved the exercise of the authorities delegated herein prior to the effective date of this delegation.

Dated: April 18, 2008,
Joan Ohl,
Commissioner, Administration for Children, Youth and Families.

[FR Doc. E8-9634 Filed 5-1-08; 8:45 am]

BILLING CODE 4184-01-P